ENVIRONMENTAL PROTECTION AGENCY

[FRL-6935-1]

Request for Nominations to the National Advisory Council for Environmental Policy and Technology, Standing Committee on Sectors

AGENCY: Environmental Protection Agency (EPA).

ACTION: Notice of request for nominations.

SUMMARY: The Environmental Protection Agency (EPA) is inviting nominations for membership on its National Advisory Council for Environmental Policy and Technology (NACEPT), Standing Committee on Sectors. The Agency is seeking qualified senior level decision makers from diverse stakeholder groups throughout the U.S. to be considered for appointments. Nominations will be accepted until close of business on February 15, 2001, and need to include a resume or short biography describing the qualifications of the nominee and the nominee's current mailing address, e-mail address and daytime telephone number.

ADDRESSES: Submit nominations to Ms. Kathleen Bailey, Designated Federal Officer, EPA, Office of the Administrator, Office of Policy, Economics and Innovation, Office of Business and Community Innovation, Sector Strategies Division, Mail Code 1808, 1200 Pennsylvania Ave., NW., Washington, DC 20460. You may also e-mail nominations to bailey.kathleen@epa.gov.

SUPPLEMENTARY INFORMATION: NACEPT is a federal advisory committee under the Federal Advisory Committee Act, PL 92463. NACEPT consists of a representative cross-section of EPA's partners and principle constituents who provide advice and recommendations to the Administrator and other EPA officials on a broad range of domestic and international environmental policy issues.

The Standing Committee on Sectors, a subcommittee of NACEPT, has existed for two years and provides a federal advisory forum from which the Agency can continue to receive valuable multi-stakeholder advise and recommendations on the use of industry sector-based approaches to environmental protection. The Standing Committee on Sectors and NACEPT recently endorsed the EPA Sector Program Plan 2001-2005, and provided EPA's Administrator with six additional recommendations to foster implementation of the Plan. The vision statement in the Plan is: “EPA Leadership Enables Environmental Excellence by U.S. Industries—Over the next five years, better understanding and cooperation among industry, government, and citizen stakeholders will help large numbers of facilities in a variety of industrial sectors make continuous improvement toward environmental excellence. Stakeholder-supported environmental strategies for industry sectors will bring marked reductions in pollution, waste, environmental and human health impacts, and regulatory burden.” The Sector Program Plan 2001-2005, and other relevant information is available on EPA's web site www.epa.gov/sectors.

We are accepting nominations for approximately 15-18 members. Criteria for selection will include the following:

—Representatives from workgroups of the Standing Committee on Sectors which have continuing projects, i.e. printing, petroleum, and metal finishing.

—Representatives from a broad range of EPA stakeholder groups which have an interest and experience in dealing with sector issues, e.g. business/industry, state/local/tribal governments, national and local environmental, environmental justice, and labor groups.

—Senior level representatives with decision-making authority for their organization.

—Representatives with experience working collaboratively with stakeholder groups in addition to their own.

Nominations will be accepted until close of business on February 15, 2001, and need to include a resume or short biography describing the qualifications of the nominee and the nominee's current mailing address, e-mail address, and daytime phone number. Nominees invited to participate will receive an invitation from EPA's Deputy Administrator.

For further information, please contact Ms. Kathleen Bailey, Designated Federal Officer, EPA, Office of the Administrator, Office of Policy, Economics and Innovation, Office of Business and Community Innovation, Sector Strategies Division, Mail Code 1808, 1200 Pennsylvania Avenue, NW., Washington, DC 20460. Phone: 202/260-3413; e-mail bailey.kathleen@epa.gov.

Kathleen Bailey,
Designated Federal Officer, NACEPT Standing Committee on Sectors.

[FR Doc. 01-1828 Filed 1-19-01; 8:45 am]

BILLING CODE 6560-50-U